DEPARTMENT OF THE INTERIOR

National Park Service

30-Day Notice of Request for Clearance of Collection of Information to the Office of Management and Budget; Opportunity for Public Comment

AGENCY: Department of the Interior, National Park Service.

ACTION: Notice and request for comments.

SUMMARY: Under provisions of the Paperwork Reduction Act of 1995 and 5 CFR part 1320, Reporting and Record Keeping Requirements, the National Park Service invites comments on a proposed new collection of information (1024-xxxx).

DATES: Public comments on the proposed Information Collection Request (ICR) will be accepted on or before thirty days from the date of publication in the Federal Register.

ADDRESSES: You may submit comments directly to the Desk Officer for the Department of the Interior (OMB #1024-xxxx), Office of Information and Regulatory Affairs, Office of Management and Budget, by fax at 202-395-6566, or by electronic mail to OIRA_docket@omb.eop.gov. Please also send, mail, or hand carry a copy of your comments and your request for a copy of the draft “Application” to James H. Charleton, Office of International Affairs, National Park Service, 1201 Eye Street, NW., (0050) Washington, DC 20005. E-mail: james_charleton@contractor.nps.gov. Phone: 202-354-1802. Fax 202-371-1446. All comments will be a matter of public record.

FOR FURTHER INFORMATION CONTACT: James H. Charleton, 202-354-1802 or April Brooks, 202-354-1808. You are entitled to a copy of the entire ICR package free-of-charge.

SUPPLEMENTARY INFORMATION: Title: Application for Inclusion of a Property in the U.S. World Heritage Tentative List.

Bureau Form #: None.

OMB Number: To be requested.

Expiration Date: To be requested.

Type of Request: New collection.

Description of Need: The primary purpose of the ICR is to gather the information necessary to evaluate the potential of properties for possible nomination by the United States to the World Heritage List by preparing a Tentative List of candidate sites. The World Heritage List is an international list of cultural and natural properties nominated by the signatories of the World Heritage Convention (1972). In 1973, the United States was the first nation to ratify the treaty. U.S. participation and the roles of the Department of the Interior and the National Park Service are authorized by Title IV of the Historic Preservation Act Amendments of 1980 and conducted in accordance with 36 CFR part 73—World Heritage Convention.

A Tentative List is a national list of natural and cultural properties appearing to meet the eligibility criteria for nomination to the World Heritage List. It is an annotated list of candidate sites which a country intends to nominate within a given time period.

The World Heritage Committee has issued Operational Guidelines asking participating nations to provide Tentative Lists, which aid in evaluating properties for the World Heritage List on a comparative international basis and help the Committee to schedule its work over the long term. The Guidelines recommend that a nation review its Tentative List at least once every decade. The current U.S. Tentative List (formerly Indicative Inventory) dates to 1982.

The new U.S. Tentative List will serve as a guide for at least the next decade 2009-2019) of U.S. nominations to the World Heritage List, commencing with nominations expected to be submitted in final form to the World Heritage Centre of UNESCO on or before February 1, 2009. The Tentative List will be structured so as to meet the World Heritage Committee's December 2004 request that the Tentative List allow for the nomination of no more than two sites per year by any one nation, at least one of which must be a natural site (excluding potential emergency nominations not at present foreseen).

The National Park Service Office of International Affairs (NPS-OIA) and the George Wright Society (GWS) are working together under a cooperative agreement to prepare the new U.S. Tentative List. After various reviews and approvals and an opportunity for owners and the public to comment on the Tentative List and the accompanying explanatory essay, the Secretary of the Interior, through the Assistant Secretary for Fish and Wildlife and Parks, will determine the composition of the new Tentative List and will submit it through the U.S. Department of State to the World Heritage Committee.

The proposed “Application” invites owners and other preparers to document properties proposed for inclusion in the Tentative List and for potential nomination by the United States to the World Heritage List. It is intended to demonstrate that the properties meet the World Heritage criteria established for inclusion by the World Heritage Committee and the other requirements, including those of U.S. domestic law (16 U.S.C. 470a-1, a-2, d) and the program regulations (36 CFR part 73—World Heritage Convention). The documentation will be used directly to develop the Tentative List, to assist the completion of U.S. World Heritage nominations, and indirectly to assist in the conservation of the properties and for heritage education and interpretation.

NPS specifically requests comments on: (1) The need for the information, including whether the information has practical utility; (2) the accuracy of the reporting burden hour estimate; (3) ways to enhance the quality, utility, and clarity of the information being collected; and (4) ways to minimize the burden of information collection on respondents, including the use of automated techniques or other forms of information technology.

Automated data collection: The “Application” can be submitted electronically by e-mail to the staff in the Office of International Affairs who are drafting the Tentative List and preparing the accompanying explanatory essay. Those without access to electronic means will be able to obtain copies of the “Application” and return them by mail.

Description of respondents: Individual private property owners and groups of property owners and local, State, and Federal agency representatives/owners. Participation will be strictly voluntary and only respondent owners who submit, or who authorize to have submitted on their behalf, a completed “Application * * *” will have their sites fully considered for inclusion in the U.S. Tentative List.

Estimated Annual Reporting Burden: (This is a one-time report that is not expected to be repeated for a number of years.) A total of 2000-6000 hours depending on the balance between less complex sites and more complex ones. If, for example, 50 individual completed “Applications” are received, of which 35 are of single buildings (estimated at 40 hours/per “Application”) and 15 of more complex sites (at 120 hours each), the total burden hours would be 3200.

Estimated Average Burden Hours per Response: Depending on the complexity of the site for which the “Application” for inclusion in the Tentative List is being prepared, the average burden hours per response may vary considerably because of many complex factors. In general, to fulfill minimum program requirements describing the property and demonstrating its “outstanding universal value” under the World Heritage criteria, the average burden hours will likely range from 40 hours for a single building “Application” to upward of 120 hours for a more complex group of buildings or a natural area, such as a major national or state park unit or wildlife refuge.

Estimated Average Number of Respondents: 50.

Frequency of Response: 1 time per respondent.

Dated: July 13, 2006.
Leonard E. Stowe,
NPS Information Collection Clearance Officer.

[FR Doc. 06-6502 Filed 7-26-06; 8:45 am]

BILLING CODE 4310-70-M